DEPARTMENT OF LABOR

Mine Safety and Health Administration

[OMB Control No. 1219-0135]

Proposed Extension of Information Collection; Health Standards for Diesel Particulate Matter Exposure (Underground Metal and Nonmetal Mines)

AGENCY: Mine Safety and Health Administration, Labor.

ACTION: Request for public comments.

SUMMARY: The Department of Labor (DOL), as part of its continuing effort to reduce paperwork and respondent burden, conducts a pre-clearance consultation program to provide the general public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection entitled Health Standards for Diesel Particulate Matter.

DATES: All comments must be received on or before December 23, 2024.

ADDRESSES: Comments concerning the information collection requirements of this notice may be sent by any of the methods listed below. Please note that late comments received after the deadline will not be considered.

• Federal E-Rulemaking Portal: https://www.regulations.gov. Follow the on-line instructions for submitting comments for docket number MSHA-2024-0032.

• Mail/Hand Delivery: DOL-MSHA, Office of Standards, Regulations, and Variances, 201 12th Street South, 4th Floor West, Arlington, VA 22202-5452. Before visiting MSHA in person, call 202-693-9455 to make an appointment.

• MSHA will post all comments as well as any attachments, except for information submitted and marked as confidential, in the docket at https://www.regulations.gov.

FOR FURTHER INFORMATION CONTACT: S. Aromie Noe, Director, Office of Standards, Regulations, and Variances, MSHA, at MSHA.information .collections@dol.gov (email); (202) 693-9440 (voice); or (202) 693-9441 (facsimile). These are not toll-free numbers.

SUPPLEMENTARY INFORMATION:

I. Background

A. Legal Authority

Section 103(h) of the Federal Mine Safety and Health Act of 1977 (Mine Act), as amended, 30 U.S.C. 813(h), authorizes MSHA to collect information necessary to carry out its duty in protecting the safety and health of miners. Further, section 101(a) of the Mine Act, 30 U.S.C. 811(a), authorizes the Secretary of Labor to develop, promulgate, and revise as may be appropriate, improved mandatory health or safety standards for the protection of life and prevention of injuries in coal and metal and nonmetal mines.

B. Information Collection

In order to fulfill the statutory mandates to promote miners' health and safety MSHA requires the collection of information under the information collection request entitled Health Standards for Diesel Particulate Matter Exposure (Underground Metal and Nonmetal Mines). The information collection addressed by this notice is intended to ensure diesel particulate matter levels in metal and nonmetal (MNM) mines are kept at acceptable levels and do not expose miners to explosive or other hazardous conditions.

Diesel particulate matter (DPM) is a carcinogen that consists of tiny particles present in diesel engine exhaust that can penetrate into the lungs. Despite ventilation, the confined underground mine work environment may contribute to significant concentrations of particles produced by equipment used in the mine. Underground miners are exposed to higher concentrations of DPM than any other occupational group. As a result, they face a greater risk of developing diseases such as lung cancer, heart failure, serious allergic responses, and other cardiopulmonary problems.

The DPM regulations established a permissible exposure limit (PEL) of 160 micrograms of total carbon per cubic meter of air (µg/m³), which is a surrogate for measuring a miner's exposure to DPM. Under 30 CFR 57.5060(b)(3), a miner's personal exposure to DPM in an underground mine must not exceed an average eight-hour equivalent full shift airborne concentration of 160TC µg/m³. Other DPM regulations include a number of other requirements for the protection of miners' health. The DPM regulations contain information collection requirements for underground MNM mine operators under 30 CFR 57.5060, 57.5065, 57.5066, 57.5070, 57.5071, and 57.5075.

1. Provide Miner With Medical Determination for Respirator Use

1-1. Respirator Training and Fitting

Due to the potential safety and health risks associated with exposure to DPM, controls must be used effectively to reduce exposure below the PEL. However, if exposure levels of DPM cannot feasibly be decreased below the PEL, they must be lowered as much as possible, and respiratory protection must be provided as a supplement to protect miners.

Under 30 CFR 57.5060(d), mine operators must install, use, and maintain feasible engineering and administrative controls to reduce a miner's exposure to or below the applicable DPM PEL. When controls do not reduce a miner's DPM exposure to the PEL, controls are infeasible, or controls do not produce significant reductions in DPM exposures, controls must be used to reduce the miner's exposure to as low a level as feasible and must be supplemented with respiratory protection in accordance with 30 CFR 57.5005(a), (b), and paragraphs (d)(1) through (d)(8) of this section.

When respiratory protection is required, mine operators must establish a respiratory protection program that complies with MSHA's respiratory protection standards for control of airborne contaminants at MNM mines in 30 CFR 57.5005(a) and (b). These require that whenever respiratory protective equipment is used a mine operator must have a program for selection, maintenance, training, fitting, supervision, and cleaning of respiratory protective equipment. Respiratory protective equipment must meet the requirements in the DPM standard under paragraphs (d)(1) and (d)(2). The information collection is covered under a currently approved request, OMB Control Number 1219-0048, Respirator Program Records.

1-2. Medical Evaluation

Miners must seek medical approval of the ability to safely wear respiratory protection before they work in an area of the mine that requires respiratory protection. This ensures that miners are safely and effectively able to wear respiratory protection.

Under 30 CFR 57.5060(d)(3), mine operator must provide a confidential medical evaluation by a physician or other licensed health care professional (PLHCP), at no cost to the miner, to determine the miner's ability to use a respirator before the miner is required to be fit tested or to use a respirator at the mine.

Under 30 CFR 57.5060(d)(3), if the PLHCP determines that the miner cannot wear a negative pressure respirator, mine operators must make certain that the PLHCP evaluates the miner's ability to wear a powered air purifying respirator (PAPR).

Under 30 CFR 57.5060(d)(4), mine operators must provide the miner with an opportunity to discuss their evaluation results with the PLHCP before the PLHCP submits the written determination to the mine operator regarding the miner's ability to wear a respirator. If the miner disagrees with the evaluation results of the PLHCP, the miner may submit within 30 days additional evidence of his or her medical condition to the PLHCP.

1-3. Written Medical Determination Examine Tagged Diesel Equipment

Miners must undergo reevaluations if the work conditions change and there is reason to believe that a miner may no longer be able to safely wear a respirator. Under 30 CFR 57.5060(d)(5), mine operators must obtain a written determination from the PLHCP regarding the miner's ability to wear a respirator and the mine operators must ensure that the PLHCP provides a copy of the determination to the miner.

Under 30 CFR 57.5060(d)(6), a miner must be reevaluated when mine operators have reason to believe that conditions have changed which could adversely affect the miner's ability to wear the respirator. Such conditions may include a reassignment of the miner to a new task requiring a significant increase in physical exertion, or the miner is assigned to work at a lower level of a deep mine where conditions such as heat impose greater physiological stress.

Under 30 CFR 57.5060(d)(7), upon written notification that the PLHCP has determined that the miner is unable to wear a respirator, including a PAPR, the miner must be transferred to work in an existing position in an area of the same mine where respiratory protection is not required. The miner must be transferred within 30 days of the final determination by the PLHCP.

Under 30 CFR 57.5060(d)(8), mine operators must maintain a record of the identity of the PLHCP and the most recent written determination of each miner's ability to wear a respirator for the duration of the miner's employment plus six months.

2. MSHA DPM Sample of Working Area

Under 30 CFR 57.5061, MSHA will use a single sample collected and analyzed in accordance with the requirements of this section as an adequate basis for a determination of noncompliance with the DPM limit. The Secretary will collect samples of DPM by using a respirable dust sampler equipped with a submicrometer impactor and analyze the samples for the amount of elemental carbon using the method described in NIOSH Analytical Method 5040.

3. Retain Fuel Purchase Record

Under 30 CFR 57.5065(a), diesel fuel used to power equipment in underground areas must not have a sulfur content greater than 0.05 percent. The operator must retain purchase records that demonstrate compliance with this requirement for one year after the date of purchase.

4. Miner Tag Diesel Equipment

Under 30 CFR 57.5066(b)(1), mine operators must authorize each miner operating diesel-powered equipment underground to affix a visible and dated tag to the equipment when the miner notes evidence that the equipment may require maintenance in order to comply with the maintenance standards specified in 30 CFR 57.5066(a). The term evidence means visible smoke or odor that is unusual for that piece of equipment under normal operating procedures, or obvious or visible defects in the exhaust emissions control system or in the engine affecting emissions.

5. Retain Log of Equipment Maintenance

Any diesel-powered equipment requiring maintenance must be promptly inspected by an authorized person, and a log of inspections and any corrective action must be maintained. Under 30 CFR 57.5066(b)(2), mine operators must ensure that any tagged equipment is promptly examined by a person authorized to maintain diesel equipment, and that the affixed tag not be removed until the examination has been completed.

Under 30 CFR 57.5066(b)(3), mine operators must retain a log of any equipment tagged pursuant to this section. The log must include the date the equipment is tagged, the date the equipment is examined, the name of the person examining the equipment, and any action taken as a result of the examination. The operator must retain the information in the log for one year after the date the tagged equipment was examined.

6. Retain Record for Competent Maintenance Personnel

Under 30 CFR 57.5066(c), persons authorized by a mine operator to maintain diesel equipment that operates at any time in underground areas as covered by paragraph (a) of this section must be qualified, by virtue of training or experience, to ensure that the maintenance standards of paragraph (a) of this section are observed. An operator must retain appropriate evidence of the competence of any person to perform specific maintenance tasks in compliance with those standards for one year after the date of any maintenance, and upon request must provide the documentation to the authorized representative of the Secretary.

7. Retain Record of DPM Health Training

Training is an important component of safety and health for all miners. Therefore, all miners who are expected to be exposed to DPM must undergo annual training. Under 30 CFR 57.5070(a), mine operators must provide annual training to all miners at a mine covered by this part who can reasonably be expected to be exposed to diesel emissions on that property. The training must include—

• The health risks associated with exposure to diesel particulate matter;

• The methods used in the mine to control diesel particulate matter concentrations:

• Identification of the personnel responsible for maintaining those controls:

• Actions miners must take to ensure the controls operate as intended:

Under 30 CFR 57.5070(b), mine operators must retain a record at the mine site of the training required by this section for one year after completion of the training.

8. Post and Deliver Diesel Particle Sampling

Mine operators are responsible for monitoring DPM levels to ensure miners are not exposed to levels that exceed the PEL. Under 30 CFR 57.5071(a), mine operators must monitor as often as necessary to effectively determine, under conditions that can be reasonably anticipated in the mine, whether the average personal full-shift airborne exposure to DPM exceeds the DPM limit specified in 30 CFR 57.5060.

9. Notify Sampling

Sampling must be conducted to ensure that miners are not exposed to dangerous levels of DPM. Prior to sampling, miners and their representatives must be notified of the date and time of DPM sampling. Following DPM sampling, results must be posted along with any necessary corrective action. Additionally, mine operators must provide any recordkeeping requirements to miners, former miners, or a miner's representative, upon request.

Under 30 CFR 57.5071(b), mine operators must provide affected miners and their representatives with an opportunity to observe exposure monitoring required by this section. Mine operators must give prior notice to affected miners and their representatives of the date and time of intended monitoring.

10. Post Sampling Result and Retain Record

Under 30 CFR 57.5071(d)(1), the results of monitoring for DPM, including any results received by a mine operator from sampling performed by MSHA, must be posted on the mine bulletin board within 15 days of receipt and must remain posted for 30 days. Mine operators must provide a copy of the results to the authorized representative of miners.

Under 30 CFR 57.5071(d)(2), mine operators must retain for five years (from the date of sampling), the results of any samples mine operators collected as a result of monitoring under this section, and information about the sampling method used for obtaining the samples.

11. Post Notice of Corrective Action

Under 30 CFR 57.5071(c), if any monitoring performed under this section indicates that a miner's exposure to diesel particulate matter exceeds the DPM limit specified in 30 CFR 57.5060, the operator must promptly post notice of the corrective action being taken on the mine bulletin board, initiate corrective action by the next work shift, and promptly complete such corrective action.

12. Respond to Request for Exposure Record by Miner

Under 30 CFR 57.5075(a), the recordkeeping requirements of the DPM standards contained in 30 CFR 57.5060 through 57.5071 are listed in a table entitled “Table 57.5075(A)—Diesel Particulate Matter Recordkeeping Requirements.” The table lists the records that mine operators must maintain pursuant to 30 CFR 57.5060, 57.5065, 57.5066, 57.5070, 57.5071, and the retention period for these records.

Under 30 CFR 57.5075(b)(3) mine operators must provide access to a miner, former miner, or, with the miner's or former miner's written consent, a personal representative of a miner, to any record required to be maintained pursuant to sections 57.5071 or 57.5060(d) to the extent the information pertains to the miner or former miner. Mine operators must provide the first copy of a requested record at no cost, and any additional copies at reasonable cost.

13. Respond to Request for Health Record

Under 30 CFR 57.5075(b)(2), upon request from an authorized representative of the Secretary of Labor, the Secretary of Health and Human Services, or from the authorized representative of miners, mine operators must promptly provide access to any record listed in the table of DPM recordkeeping requirements in this section.

II. Desired Focus of Comments

MSHA is soliciting comments concerning the proposed information collection entitled Health Standards for Diesel Particulate Matter Exposure (Underground Metal and Nonmetal Mines). MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 201 12th Street South, 4th Floor West, Arlington, VA 22202-5452. Sign in at the receptionist's desk on the 4th Floor via the West elevator. Before visiting MSHA in person, call 202-693-9455 to make an appointment.

Questions about the information collection requirements may be directed to the person listed in the FOR FURTHER INFORMATION section of this notice.

III. Current Actions

This information collection request concerns provisions for Health Standards for Diesel Particulate Matter Exposure (Underground Metal and Nonmetal Mines). MSHA has updated the data with respect to the number of respondents, responses, time burden, and burden costs supporting this information collection request from the previous information collection request.

Type of Review: Extension, without change, of a currently approved collection.

Agency: Mine Safety and Health Administration.

OMB Number: 1219-0135.

Affected Public: Business or other for-profit.

Number of Annual Respondents: 194.

Frequency: On occasion.

Number of Annual Responses: 49,010.

Annual Time Burden: 5,048 hours.

Annual Other Burden Costs: $80,054.

Comments submitted in response to this notice will be summarized and included in the request for Office of Management and Budget approval of the proposed information collection request; they will become a matter of public record and be available at https://www.reginfo.gov.

Song-ae Aromie Noe,
Certifying Officer, Mine Safety and Health Administration.

[FR Doc. 2024-24495 Filed 10-22-24; 8:45 am]

BILLING CODE 4510-43-P